DEPARTMENT OF JUSTICE

National Institute of Corrections

Solicitation for a Cooperative Agreement-Production of Seven Satellite/Internet Video Programs

AGENCY: National Institute of Corrections, Department of Justice.

ACTION: Solicitation for a Cooperative Agreement.

SUMMARY: The Department of Justice (DOJ), National Institute of Corrections (NIC), announces the availability of funds in FY 2003 for a cooperative agreement to fund the production of seven Satellite/Internet video programs. Four of the proposed programs are separate, individual, nationwide satellite/Internet teleconferences (three hours each). The other three are distance learning courses delivered via a satellite/Internet. One of the three distance learning programs are site coordinator/facilitator training sessions (Training for Trainers). A site coordinator precursor module will contain eight hours of satellite/internet training split over two days. The remaining two are content-driven training programs which will consist of 32 hours of training. We will have 16 hours of live-broadcast satellite/Internet training over four days, (four hours each day). The other 16 hours of off-air activities will be directed by our trained site coordinators. There will be a total of 52 hours of broadcast time FY 03.

DATES: Applications must be received by 4 p.m. on Thursday, August 15, 2002.

ADDRESSES: Applications should be addressed to: Director, National Institute of Corrections, 320 First Street, NW., Room 5007, Washington, DC 20534. Applicants are encouraged to use Federal Express, UPS, or similar service ot insure delivery by the due date as mail at NIC is still being delayed due to recent changes in mail handling procedures. Hand delivered applications can be brought to 500 First Street, NW., Washington, DC 20534. The security desk will call Fran Leonard at (202) 307-3106, and 0 for pickup. Faxed or emailed applications will not be accepted.

FOR FURTHER INFORMATION CONTACT: A copy of this announcement and the required application forms can be downloaded from the NIC web page at www.nicic.org (Click on “cooperative agreements.”) Hard copies of the announcement can be obtained by calling Judy Evens at 1-800-995-6423 x44222 or email at jevens@bop.gov. Any specific questions regarding the application process should be directed to Ms. Evens.

All technical and/or programmatic questions concerning this announcement should be directed to Ed Wolahan, Corrections Program Specialist, at 1960 Industrial Circle, Longmont, Colorado 80501, or by calling 800-995-6429 ext 131, or by email:ewolahan@bop.gov.

SUPPLEMENTARY INFORMATION:

Background

Distance learning is defined as a training/education process transpiring between trainers/teachers at one location and participants/students at other locations via technology. NIC is using the satellite broadcasting and the Internet to economically reach more correctional staff in federal, state and local agencies. Another strong benefit of satellite delivery is its ability to broadcast programs conducted by experts in the correctional field. The entire audience can be reached at the same time with exactly the same information. Everyone will be reading from the same page. In addition, NIC is creating training programs from its edited 32 hour programs that will be disseminated through its Information Center.

Purpose

The purposes of funding this initiative are:

(1) Produce four-three-hour satellite/Internet videoconferences, disseminating current information to the criminal justice community;

(2) Produce one eight-hour training sessions for site coordinators/facilitators. This is designed to train the facilitators from each registered site concerning the outcomes expected and in the knowledge and skills to facilitate the off-air activities;

(3) Produce two 16-hour sessions of distance learning training that responds directly to the needs identified by practitioners working in the criminal justice arena. The satellite training will be delivered four hours each day, Monday through Thursday.

Scope of Work

To address the scope of work for this project, the following will be needed:

1. Producer Consultation and Creative Services: The producer will: (a) Consult and collaborate on program design, program coordination, design of field segments and content development with NIC's Distance Learning Manager; (b) work with each individual consultant and develop their modules for delivery using the distance learning format and/or the teleconference format; (c) help develop scripts, graphic design, production elements and rehearsal for each module of the site coordinators' training and the distance learning training; (d) use their expertise in designing creative ways to deliver satellite teleconferencing. The producer will also be responsible for attending planning meetings and assisting in the video- taping of testimonials at conferences.

2. Pre-Production: Video: The producer will supervise the production of vignettes to be used in each of the three-hour videoconferences, as well as the distance learning training. NIC presenters (content experts) will draft outlines of the scripts for each vignette. From the outlines, scripts will be developed by the producer (script writing expert) and approved by NIC's Distance Learning Manager. Professional actors will play the parts designated by the script. Story boards for each production will be written by NIC's Distance Learning Manager.

Producer will supervise camera and audio crews to capture testimonials from leaders in the correctional field at designated correctional conferences. The producers will coordinate all planning of the production and post production for each of the seven teleconferences Video Production: Video production for each teleconference will consist of video taping content related events in the field, editing existing video and video taping experts for testimonial presentations. It will also include voice over, audio and music for each video, if necessary. Blank tapes and narration for field shooting will be purchased for each site. The format for all field shooting will be either Beta Cam, DV Pro Digital and/or Mini DVD.

Post Production (Studio): Innovated and thought provoking opening sequences will be produced for each teleconference. In addition graphics will be utilized to enhance the learning in each module. The producer will coordinate art direction, lighting, and set design and furniture for all teleconference segments. (Set design should change periodically throughout the award period). The producer will organize and supervise the complete production crew for rehearsal and production days. (See schedules below).

3. Production: The production group will set up and maintain studio lighting, adjust audio, and have a complete production crew for the following days and hours. A production crew will include Director, Audio Operator, Video Operator, Character Generator Operator, Floor Director, Camera Operators (3 to 4), Teleprompter Operator, On Line Internet Coordinator, Make-Up Artist (production time only), and Interactive Assistance Personal (fax, email, and telephone.)

| Hours
1. Offender Job Retention for Correctional Professionals 32 Hour Distance Learning—October 7-11, 2002
Rehearsal—October 6, 2002 | 8
Production On-Air, & Rehearsal—October 7, 2002 | 9
Production On-Air, & Rehearsal—October 8, 2002 | 9
Production On-Air, & Rehearsal—October 9, 2002 | 9
Production On-Air, & Rehearsal—October 10, 2002 | 5
2. Transition From Prison to the Community—February 19, 2003
Rehearsal—February 18, 2003 | 8
Production On-Air, February 19, 2003 | 4
3. Site Coordinators/Facilitators Training for Youthful Offenders in Adult Corrections: A Systemic Approach Using Effective Interventions—May 14 & 15, 2003
Rehearsal—May 13, 2003 | 8
Production On-Air—Rehearsal May 14, 2003 | 9
Production On-Air—May 15, 2003 | 5
4. The Criminal Justice Response to Children of Prisoners and Their Caretakers—June 18, 2003
Rehearsal—June 17, 2003 7 | 8
Production On-Air, June 18, 2003 | 4
5. Institution Culture—July 16, 2003
Rehearsal—July 15, 2003 | 8
Production On Air, July 16, 2003 | 4
6. Developing an Effective New Employee FTO Program—August 20, 2003
Rehearsal—August 19, 2003 | 8
Production On-Air, August 20, 2003 | 4
7. Youthful Offender in Adult Corrections: A Systemic Approach Using Effective Interventions—32 Hour Distance Learning—September 15-19, 2003
Rehearsal—September 14, 2003 | 8
Production On-Air & Rehearsal—September 15, 2003 | 9
Production On-Air & Rehearsal—September 16, 2003 | 9
Production On-Air & Rehearsal—September 17, 2003 | 9
Production On-Air, September 18, 2003 | 5

4. Transmission:

A. Purchase satellite uplink time that will include the footprints of Alaska, Hawaii, Virgin Islands, and the Continental United States;

B. Acquire downlink transponder time for KU-Band and C-Band

C. Purchase Internet streaming of 200 simultaneous feeds for each program.

5. Equipment: Applicants must have a minimum of the following equipment and qualified personnel.

A. Broadcast Studio of approximately 2,000 square feet, with an area for a studio audience of between 15 and 20 people.

B. Four-Digital Studio Cameras (One of which could be an overhead camera with robotic control)

C. Chroma Key—At least one wall with chroma key capability along with the digital ultimate keying system

D. A tape operation facility providing playback/record in various formats, including DV, Betacam, Betacam SP, SVHS, VHS, U-Matic 3/4 & SP.

E. A/B roll linear and digital nonlinear editing

F. Three-dimensional animation with computer graphics.

G. Internet streaming capacity for several hundred simultaneous downloads in both G2 Real Player and Microsoft Media Player

H. Ability to archive three to four videoconferences from FY02 and all seven of FY03

I. Computer Teleprompter for at least two studio cameras

J. Satellite Uplink and Transponder—KU-Band and C-Band/or Digital with KU-Band to cover the footprints of Alaska, Hawaii, Virgin Islands, and the Continental United States

K. Portable Field Equipment—Digital Video Cameras with recording decks, portable lighting kits, microphones (hand held and lapel), field monitors, audio mixers, and camera tripods.

6. Personnel:

A. Producer/Director.

B. Script Writer.

C. Set Designer.

D. Lighting Designer.

E. Audio Operator.

F. Graphics Operator.

G. Graphics Artist.

H. Floor Manager.

I. Studio Cameras Operators (3 to 4).

J. Tape Operator.

K. Location Camera Operator.

L. Teleprompter Operator.

M. Clerical/Administrative Support.

N. Makeup Artist.

Application Requirements

Applicants must submit an original (signed in blue ink) and five copies of their application and the required forms (see below.) Applicants must prepare a proposal that describes their plan to address the requirements to produce seven live Internet/Satellite teleconferences. The plan must include a list of all required equipment, identify their key operational staff and the relevant expertise of each, and address the manner in which they would perform all tasks in collaboration with NIC's Distance Learning Supervisor. Please note that the Standard Form 424, Application for Federal Assistance, submitted with the proposal must contain the cover sheet, budget, budget narrative, assurances, certifications, and management plan. All required forms and instructions for their completion may be downloaded from the NIC website: http://www.nicic.org.

Authority: Public Law 93-415

Amount of Award

This is a cooperative agreement. A cooperative agreement is a form of assistance relationship through which the National Institute of Corrections is involved during the performance of the award. This award is made to an organization who has the capability to produce live satellite/Internet teleconferences. This initiative emphasizes television quality production that meets or exceeds major network quality. The award will be limited to $300,000 for both direct and indirect costs related to this project. Funds may not be used to purchase equipment, construction, or to acquire or build real property. This project will be a collaborative venture with the NIC Academy.

All products from this funding will be in the public domain and available to interested agencies through the National institute of Corrections.

Availability of Funds: Funds are not presently available for this cooperative agreement. The Government's obligation under this cooperative agreement is contingent upon the availability of appropriated funds from which payment for cooperative agreement purposes can be made. No legal liability on the part of the government for any payment may arise until funds are made available for this cooperative agreement and until the awardee receives notice of such availability, to be confirmed in writing. Nothing contained herein shall be construed to obligate the parties to any expenditure or obligation of funds in excess or in advance of appropriation in accordance with the Antideficiency Act, 31 U.S.C. 1341.

Award Period: This award period is from October 1, 2002 to September 30, 2003.

Eligibility of Applicants: An eligible applicant is any state or general unit of local government, public or private agency, educational institution, organization, team or individual with the requisite skills to successfully meet the objectives of the project.

Review Considerations: Applications received under this announcement will be subjected to an NIC 3 to 5 member review panel.

Number of Awards: One (1).

Executive Order 12372: This program is not subject to the provisions of Executive Order 12372.

NIC Application Number: 03A13: This number should appear as a reference line in your cover letter, in Box 11 of Standard Form 424, and on the outside of the package sent to NIC.

(Catalog of Federal Domestic Assistance Number: 16.601: Corrections—Staff Training and Development)
Dated: July 10, 2002.
Morris Thigpen,
Director, National Institute of Corrections.

[FR Doc. 02-17832 Filed 7-15-02; 8:45 am]

BILLING CODE 4410-36-M